DEPARTMENT OF AGRICULTURE

Forest Service

Information Collection; Federal Excess Personal Property (FEPP) Inventory

AGENCY: Forest Service, USDA.

ACTION: Request for comment; notice.

SUMMARY: In accordance with the Paperwork Reduction Act of 1995, the Forest Service is seeking comments from all interested individuals and organizations on the new information collection, Federal Excess Personal Property (FEPP) Inventory.

DATES: Comments must be received in writing on or before January 28, 2008 to be assured of consideration. Comments received after that date will be considered to the extent practicable.

ADDRESSES: Comments concerning this notice should be addressed to Melissa Frey, USDA Forest Service, F&AM, 1400 Independence Ave., SW., Mailstop Code: 1107, Washington, DC 20250-1107.

Comments also may be submitted via facsimile to (202) 205-1401; or by e-mail to mfrey@fs.fed.us.

The public may inspect comments received at USDA Forest Service, Fire and Aviation Management—Room 2SO, 201 14th St., SW., Washington, DC 20024 during normal business hours. Visitors are encouraged to call ahead to (202) 205-1483 to facilitate entry to the building.

FOR FURTHER INFORMATION CONTACT: Melissa Frey, Fire and Aviation Management, phone: (202) 205-0955, mfrey@fs.fed.us. Individuals who use TDD may call the Federal Relay Service (FRS) at 1-800-877-8339, 24 hours a day, every day of the year, including holidays.

SUPPLEMENTARY INFORMATION: Title: Federal Excess Personal Property (FEPP) Inventory.

OMB Number: 0596-New.

Type of Request: New.

Abstract: The Forest Service acquires excess federally-owned property to loan to state cooperators for wildland fire fighting. Since the property belongs to the Forest Service, the proposed inventory system will facilitate reporting by state agencies to the Forest Service on the status and location of the property.

Program authorities include, the Federal Property and Administrative Services Act of 1949, as amended (40 U.S.C. 483), and the Cooperative Forestry Assistance Act of 1978 (16 U.S.C. 2101 (note)). Additional pertinent regulations include the USDA Organic Act of 1944 (16 U.S.C. 508a) and Federal Property Management Regulations 101-43.309-1, 101-43-313, and 101-43-314 (40 U.S.C. 483).

State agencies will use the electronic database (Federal Excess Property Management Information System or FEPMIS) to submit information regarding property make, model, serial number, acquisition value, location, and acquisition date when an item is acquired or no longer needed. Forest Service property management technicians will collect the information from FEPMIS and enter it into a National Finance Center database (PROP), as required by Federal Property Management Regulations. Forest Service property management officers will analyze the data collected to ensure that the property accountability is accurate and no misuse of property is occurring.

Estimate of Annual Burden: 2 minutes.

Type of Respondents: State agency FEPP property managers.

Estimated Annual Number of Respondents: 55.

Estimated Annual Number of Responses per Respondent: 300.

Estimated Total Annual Burden on Respondents: 5,800 hours.

Comment is invited on: (1) Whether this collection of information is necessary for the stated purposes and the proper performance of the functions of the agency, including whether the information will have practical or scientific utility; (2) the accuracy of the agency's estimate of the burden of the collection of information, including the validity of the methodology and assumptions used; (3) ways to enhance the quality, utility, and clarity of the information to be collected; and (4) ways to minimize the burden of the collection of information on respondents, including the use of automated, electronic, mechanical, or other technological collection techniques or other forms of information technology.

All comments received in response to this notice, including names and addresses when provided, will be a matter of public record. Comments will be summarized and included in the request for Office of Management and Budget approval.

Dated: November 20, 2007.
Kent P. Connaughton,
Associate Deputy Chief, State and Private Forestry.

[FR Doc. E7-23034 Filed 11-26-07; 8:45 am]

BILLING CODE 3410-11-P